DEPARTMENT OF AGRICULTURE

Forest Service

Proposal by Alpha Calcit Arizona, Limited, To Operate a Marble Mine; Coronado National Forest, Douglas Ranger District, Cochise County, AZ

AGENCY: Forest Service, USDA.

ACTION: Cancellation of notice of intent.

SUMMARY: The Department of Agriculture, Forest Service, hereby cancels a Notice of Intent (NOI) to prepare an environmental impact statement (EIS) for the proposed operation of a marble mine by Alpha Calcit Arizona, Limited. The NOI was published in the Federal Register on January 27, 2003 (Vol. 68, No. 17, FR 3856-3858). Preparation of this EIS is being terminated because there is presently insufficient data and information to characterize the mineral deposit in terms of quality and quantity and to sufficiently evaluate the proposed Plan of Operation.

FOR FURTHER INFORMATION CONTACT: Teresa Ann Ciapusci, Program Leader, Ecosystem Management and Planning, Coronado National Forest, 300 West Congress Street, Tucson, AZ 85701, (520) 388-8350.

SUPPLEMENTARY INFORMATION: On August 31, 2001, the project proponent, Alpha Calcit Arizona, Limited, submitted a Plan of Operation to the Coronado National Forest requesting approval, under the Mining Law of 1872, to reopen, expand, and operate an existing, non-operational marble quarry on the Tapia-Bliss mining claims in the Dragoon Mountain Range of southeastern Arizona. The Forest Service subsequently published a Notice of Intent to prepare an environmental impact statement (EIS) to evaluate the proposal on January 27, 2003 (68 FR 3856-3858).

In general, the Plan of Operation proposed the (1) expansion of the existing quarry to obtain 100,000 short tons of marble, limestone, and related products annually for a period of 20 years; (2) construction of a crushing facility on private land approximately 2300 feet north of the center of the mine; (3) use of blasting material and heavy equipment to transport the product to the crushing facility; (4) construction of approximately 0.5 mile of new road to access the top of the exposed Escabrosa Limestone Formation and top bench of the mine; and (5) reconstruction (widening to about 30 feet) of approximately 0.5 mile of existing access road from the Forest boundary to the mine. Because new road construction would be located in an area designated by the Forest Service as an Inventoried Roadless Area (http://roadless.fs.fed.us/states/az/coro.pdf), the project may be subject to regulations in Title 36 Code of Federal Regulations 294.12, and policy direction in Interim Directive Forest Service Manual 1925.

Abel M. Camarena,
Deputy Regional Forester, Southwestern Region.

[FR Doc. 05-7480 Filed 4-13-05; 8:45 am]

BILLING CODE 3410-11-P